DEPARTMENT OF HOUSING AND URBAN DEVELOPMENT

[Docket No. FR-5580-N-02]

HUD Draft Environmental Justice Strategy, Extension of Public Comment Period

AGENCY: Office of Sustainable Housing and Communities, HUD.

ACTION: Notice.

SUMMARY: Through this notice, HUD extends the period by which comments may be submitted on HUD's draft Environmental Justice Strategy, for which the availability of review and the opportunity to submit public comments were announced by notice published in the Federal Register on October 7, 2011.

DATES: Comment Due Date: November 23, 2011. Comments may be submitted to EJStrategy@hud.gov.

FOR FURTHER INFORMATION CONTACT: Kathryn Dykgraaf Office of Sustainable Housing and Communities, Department of Housing and Urban Development, 451 7th Street SW., Room, Washington, DC 20410; telephone number (202) 402-6731 (this is not a toll-free number). Persons with hearing or speech impairments may access this number through TTY by calling the toll-free Federal Relay Service at (800) 877-8339.

SUPPLEMENTARY INFORMATION:

I. Background

By notice published in the Federal Register on October 7, 2011 (76 FR 62434), HUD released for review and public comment its draft Environmental Justice Strategy (EJ Strategy). HUD's EJ Strategy is a four-year plan to address environmental justice concerns and increase access to environmental benefits through HUD policies, programs, and activities. HUD's EJ strategy can be found at http://portal.hud.gov/hudportal/HUD?src=/program_offices/sustainable_housing_communities/HUD_Draft_Environmental_Justice_Strategy. As HUD noted in the October 7, 2011, notice, the release of the draft is the latest step in a larger Administration-wide effort to ensure strong protection from environmental and health hazards for all Americans. The October 7, 2011, notice provided for the submission of public comments through November 14, 2011.

Through this notice HUD extends the public comment period to November 23, 2011. Comments can be submitted by emailing EJStrategy@hud.gov.

HUD will review the comments submitted, and is targeting finalization of the strategy by February 2012. After the strategy is issued in final, HUD and its Federal partners will continue to engage stakeholders through outreach, education and stakeholder events and respond to public comments through annual implementation reports.

Dated: November 7, 2011.
Mariia Zimmerman,
Deputy Director for Sustainable Communities.

[FR Doc. 2011-29518 Filed 11-15-11; 8:45 am]

BILLING CODE 4210-67-P